DEPARTMENT OF TRANSPORTATION

Federal Aviation Administration

Notice of Opportunity for Public Comment on Surplus Property Release at Monroe Regional Airport, Monroe, NC

AGENCY: Federal Aviation Administration (FAA), DOT.

ACTION: Notice.

SUMMARY: Under the provisions of Title 49, U.S.C. Section 47153(d), notice is being given that the FAA is considering a request from the City of Monroe to waive the requirement that a 8.7 acre parcel of surplus property, located at the Monroe Regional Airport, be used for aeronautical purposes.

DATES: Comments must be received on or before August 11, 2005.

ADDRESSES: Comments on this notice may be mailed or delivered in triplicate to the FAA at the following address: Atlanta Airports District Office, 1701 Columbia Ave., Campus Building, Suite 2-260, College Park, GA 30337.

In addition, one copy of any comments submitted to the FAA must be mailed or delivered to Mr. Mark F. Donham, Assistant City Manager/Airport Director at the following address: P.O. Box 69, Monroe, NC 28111.

FOR FURTHER INFORMATION CONTACT: Tracie D. Kleine, Program Manager, Atlanta Airports District Office, 1701 Columbus Ave., Campus Bldg., Suite 2-260, College Park, GA 30337, (404) 305-7148. The application may be reviewed in person at this same location.

SUPPLEMENTARY INFORMATION: The FAA is reviewing a request by the City of Monroe to release 8.7 acres of surplus property at the Monroe Regional Airport. The surplus property is needed for the expansion of Allvac and will be exchanged for private property that is currently owned by Allvac. The property fronts Teledyne Road and is adjacent to existing Allvac facilities. The City of Monroe will provide the 8.7 acres of surplus property in addition to $55,000 in exchange for 15.92 acres of property owned by Allvac.

Any person may inspect the request in person at the FAA office listed above under FOR FURTHER INFORMATION CONTACT. In addition, any person may, upon request, inspect the request, notice and other documents germane to the request in person at the City of Monroe's Offices.

Issued in Atlanta, Georgia on July 5, 2005.
Scott L. Seritt,
Manager, Atlanta Airports District Office, Southern Region.

[FR Doc. 05-13684 Filed 7-11-05; 8:45 am]

BILLING CODE 4910-13-M